DEPARTMENT OF HOUSING AND URBAN DEVELOPMENT

[Docket No. FR-7029-N-10]

60-Day Notice of Proposed Information Collection: Implementation Evaluation of EnVision Centers

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: January 19, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Implementation Evaluation of EnVision Centers.

OMB Approval Number: Pending.

Type of Request: New collection.

Form Number: N/A.

Description of the need for the information and proposed use: This request is for the collection of information for an implementation evaluation of EnVision Centers. EnVision Centers offer collocated and integrated services with the goal of helping low-income persons achieve self-sufficiency. Using leveraged resources from local and federal partnerships, HUD encourages EnVision Centers to target and integrate services within four main pillars: Economic empowerment, educational advancement, health and wellness, and character and leadership. In June 2018, HUD designated 18 EnVision Centers as part of the initiative's first cohort of designations and has since expanded the initiative with three additional cohorts—a total of over 40 designated EnVision Centers. This new and rapidly growing initiative creates a critical need to gain an in-depth understanding from local stakeholders of implementation efforts to date, which will help develop and guide the initiative while establishing a framework of knowledge for future program monitoring and evaluation efforts. The evaluation team will collect data from sites using qualitative, semi-structured interviews with four groups of key local stakeholders: Site leadership, front line staff, participants, and representatives from organizations (partners) that provide services and resources to the EnVision Center. The interviews will primarily seek to understand how communities selected and established their center, the process for centralized intake and participant level data collection, and how new partnerships and services have developed since the center's designation. Through an Inter-Agency Agreement (IAA), the Library of Congress' Federal Research Division will conduct the evaluation under guidance from HUD.

Respondents: This evaluation will conduct qualitative, semi-structured interviews with four groups of respondents: Leadership, front line staff, participants, and partners. 18 EnVision Center sites will be selected for interviews. Leadership will include community executives (from Public Housing Authorities, local government, non-profits, etc.) who were involved with early planning efforts that led the community to apply for EnVision Center designation, and persons involved with managing the daily operations of the center. Front line staff will include onsite service coordinators, intake workers, and case managers who are involved with the intake and triaging of services or work directly with connecting participants to services at the EnVision Center. Participants will include persons who were offered or have received services or assistance at the EnVision Center. Partners will be representatives from organizations (such as service providers, faith-based entities, or philanthropic organizations) that provide services and resources at the EnVision Center.

Estimated Number of Respondents: A total of about 270 respondents for the semi-structured interviews, with about 15 respondents for each site.

Estimated Time per Response: We expect each qualitative interview to last about 1 hour.

Frequency of Response: 1 time.

Estimated Total Annual Burden Hours: 270 burden hours for the qualitative interviews.

Estimated Total Annual Cost: $5,372 for the qualitative interviews.

Respondent's Obligation: Voluntary.

Legal Authority: The interviews will be conducted under Title 12, United States Code, Section 1701z and Section 3507 of the Paperwork Reduction Act of 1995, 44, U.S.C., 35, as amended.

Information collection | Number of respondents | Frequency of response | Responses per annum | Burden hour per response | Annual burden hours | Hourly cost per response ¹ | Cost
Qualitative Interviews—Leadership | 90 | 1 | 1 | 1 | 90 | $35.05 | $3,154.50
Qualitative Interviews—Front Line Staff | 54 | 1 | 1 | 1 | 54 | 17.39 | 939.06
Qualitative Interviews—Participants | 90 | 1 | 1 | 1 | 90 | 7.25 | 652.50
Qualitative Interviews—Partners | 36 | 1 | 1 | 1 | 36 | 17.39 | 626.04
Total | 270 |  |  |  | 270 |  | 5,372.10
¹ Hourly costs for leadership, front line staff, and partners based on the Occupational Employment Statistics: https://www.bls.gov/oes/current/naics4_624200.htm#21-0000. Hourly cost for participants based on the Federal Minimum Wage: https://www.dol.gov/general/topic/wages/minimumwage.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. Chapter 35. The Assistant Secretary for Policy Development and Research, Seth Appleton, having reviewed and approved this document, is delegating the authority to electronically sign this document to submitter, Nacheshia Foxx, who is the Federal Register Liaison for HUD, for purposes of publication in the Federal Register.

Nacheshia Foxx,
Federal Liaison for the Department of Housing and Urban Development.

[FR Doc. 2020-25323 Filed 11-16-20; 8:45 am]

BILLING CODE 4210-67-P